DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove one system of records notice from its inventory of record systems because the Federal Law Enforcement Training Center no longer requires the system. The obsolete system is Treasury/FLETC.004 FLETC Administrative Records.

DATES: Effective Date: December 19, 2008.

FOR FURTHER INFORMATION CONTACT: Hugo Teufel III, Chief Privacy Officer, Department of Homeland Security, Washington, D.C. 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing one Federal Law Enforcement Training Center (FLETC) system of records notice from its inventory of record systems.

DHS inherited this record system upon its creation in January of 2003. Upon review of its inventory of systems of records, DHS has determined it no longer needs or uses this system of records and is retiring the following: Treasury/FLETC.004 FLETC Administrative Records (66 FR 43955 August 21, 2001).

Treasury/FLETC.004 FLETC Administrative Records was originally established to collect and maintain FLETC's administrative records.

Eliminating this system of records notice will have no adverse impacts on individuals, but will promote the overall streamlining and management of DHS Privacy Act record systems.

Dated: Nov. 12, 2008.
John W. Kropf,
Acting Chief Privacy Officer, Department of Homeland Security.

[FR Doc. E8-27362 Filed 11-18-08; 8:45 am]

BILLING CODE 4410-10-P